DEPARTMENT OF AGRICULTURE

Forest Service

Notice of Sanders County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Lolo and Kootenai National Forests' Sanders County Resource Advisory Committee will meet on November 17 at 7 p.m. in Thompson Falls, Montana for a business meeting. The meeting is open to the public.

DATES: November 17, 2005.

ADDRESSES: The meeting will be held at the Thompson Falls Courthouse, 1111 Main Street, Thompson Falls, MT 59873.

FOR FURTHER INFORMATION CONTACT: Randy Hojem, Designated Federal Official (DFO), District Ranger, Plains Ranger District, Lolo National Forest at (406) 826-3821.

SUPPLEMENTARY INFORMATION: Agenda topics include reviewing progress on current RAC projects, and receiving public comment. If the meeting location is changed, notice will be posted in the local newspapers, including the Clark Fork Valley Press, and Sanders County Ledger.

Dated: November 1, 2005.
Randy Hojem,
DFO, Plains Ranger District, Lolo National Forest.

[FR Doc. 05-22353 Filed 11-8-05; 8:45 am]

BILLING CODE 3410-11-M